DEPARTMENT OF COMMERCE

National Oceanic and Atmospheric Administration

RIN 0648-XR69

New England Fishery Management Council; Public Meeting

AGENCY: National Marine Fisheries Service (NMFS), National Oceanic and Atmospheric Administration (NOAA), Commerce.

ACTION: Notice of a public meeting.

SUMMARY: The New England Fishery Management Council's (Council) Herring Oversight Committee along with the Atlantic States Marine Fisheries Commission's Herring Section will meet to consider actions affecting New England fisheries in the exclusive economic zone (EEZ).

DATES: The meeting will be held on Tuesday, October 6, 2009 at 9:30 a.m.

ADDRESSES: The meeting will be held at the Eastland Park Hotel, 157 High Street, Portland, ME 04101; telephone: (207) 775-5411; fax: (207) 775-1066.

Council address: New England Fishery Management Council, 50 Water Street, Mill 2, Newburyport, MA 01950.

FOR FURTHER INFORMATION CONTACT: Paul J. Howard, Executive Director, New England Fishery Management Council; telephone: (978) 465-0492.

SUPPLEMENTARY INFORMATION: The items of discussion in the committee's agenda are as follows:

1. Review/discuss Scientific and Statistical Committee (SSC) recommendations for acceptable biological catch (ABC) and ABC control rule;

2. Discuss herring fishery specifications for 2010-12 fishing years and develop preliminary recommendations for domestic annual harvesting (DAH), domestic annual processing (DAP), joint venture processing (JVP), border transfer (BT), total allowable level of foreign fishing (TALFF), optimum yield (OY), and other related specifications;

3. Discuss/address management uncertainty and develop related recommendations; develop options for 2010-12 annual catch limits (ACLs) for herring management areas to be analyzed in the specifications package;

4. Address other issues related to 2010-12 herring fishery specifications.

Although non-emergency issues not contained in this agenda may come before this group for discussion, those issues may not be the subject of formal action during this meeting. Action will be restricted to those issues specifically identified in this notice and any issues arising after publication of this notice that require emergency action under section 305(c) of the Magnuson-Stevens Fishery Conservation and Management Act, provided the public has been notified of the Council's intent to take final action to address the emergency.Special Accommodations

This meeting is physically accessible to people with disabilities. Requests for sign language interpretation or other auxiliary aids should be directed to Paul J. Howard (see ADDRESSES) at least 5 days prior to the meeting date.

Authority: 16 U.S.C. 1801 et seq.

Dated: September 15, 2009.
Tracey L. Thompson,
Acting Director, Office of Sustainable Fisheries, National Marine Fisheries Service.

[FR Doc. E9-22491 Filed 9-17-09; 8:45 am]

BILLING CODE 3510-22-S